NUCLEAR REGULATORY COMMISSION

[Docket No. 30-10716; NRC-2020-0214]

Sigma-Aldrich Company; Fort Mims Site

Correction

In notice document 2020-28065 appearing on pages 83109-83111 in the issue of Monday, December 21, 2020, make the following correction:

(1) On page 83109, in the first column, in the DATES section, change “January 20, 2021” to read “January 21, 2021.”

[FR Doc. C1-2020-28065 Filed 1-12-21; 8:45 am]

BILLING CODE 1301-00-D